DEPARTMENT OF HOUSING AND URBAN DEVELOPMENT

[Docket No. 5300-FA-06]

Announcement of Funding Awards for Healthy Homes and Lead Hazard Control Grant Programs for Fiscal Year 2009

AGENCY: Office of the Secretary, Office of Healthy Homes and Lead Hazard Control

ACTION: Announcement of awards funded.

SUMMARY: In accordance with Section 102(a)(4)(C) of the Department of Housing and Urban Development Reform Act of 1989, this announcement notifies the public of funding decisions made by the Department in competitions for funding under the Office of Healthy Homes and Lead Hazard Control Grant Program Notices of Funding Availability. This announcement contains the name and address of the award recipients and the amounts of award awarded.

FOR FURTHER INFORMATION CONTACT: Mr. Matthew Ammon, Department of Housing and Urban Development, Office of Healthy Homes and Lead Hazard Control, Room 8236, 451 Seventh Street, SW., Washington, DC 20410, telephone (202) 402- 4337. Hearing-and speech-impaired persons may access the number above via TTY by calling the toll free Federal Relay Service at 1-800-877-8339.

SUPPLEMENTARY INFORMATION: The 2009 awards were announced December 29, 2008. These awards were the result of competitions announced in a Federal Register notice published on May 22, 2009 for Lead Based Paint Hazard Control and Lead Hazard Reduction Demonstration Grant Programs (FR-5300-N-06); on September 21, 2009 for the Healthy Homes Demonstration (FR-5300-N-17), Lead Hazard Control Capacity Building (FR-5300-N-31) and Green and Healthy Homes Technical Studies (FR-5300-N-20); and on June 17, 2009 for the Healthy Homes Technical Studies Grant Programs (FR-5300-N-07). The purpose of the competitions was to award funding for grants and cooperative agreements for the Office of Healthy Homes and Lead Hazard Control Grant Programs. Applications were scored and selected on the basis of selection criteria contained in these Notices. A total of $129,050,449 was awarded under the Consolidated Appropriations Act, 2009 (Pub. L. 111-88) and prior year appropriations. In accordance with Section 102(a)(4)(C) of the Department of Housing and Urban Development Reform Act of 1989 (103 Stat. 1987; 42 U.S.C. 3545), the Department is publishing the names, addresses, and the amount of these awards as follows:

1. A total of $67,826,437 was awarded to 26 grantees for the Lead Based Paint Hazard Control Grant Program under the Consolidated Appropriations Act, 2009: City of Huntington Park, 6550 Miles Avenue, Huntington Park, CA 90255, $1,570,000; City of South Lake Tahoe, 1901 Airport Road, Suite 107, South Lake Tahoe, CA 96150, $1,500,000; State of Connecticut Department of Social Services, 25 Sigourney Street, Hartford, CT 06106, $3,000,000; City of Kankakee, 199 S. East Avenue, Suite 1, Kankakee, IL 60901, $3,000,000; Will County, 302 North Chicago Street, Joliet, IL 60432, $2,070,000; Health and Hospital Corporation of Marion County, 3838 North Rural Street, Indianapolis, IN 46205, $3,069,893; Indiana State Department of Health, 2 North Meridian Street, Indianapolis, IN 46204, $1,140,000; Louisville Jefferson County Metro Government, 527 West Jefferson Street, Louisville, KY 40202, $2,724,823; City of Boston, 26 Court Street, Boston, MA 02136, $3,070,000; City of Lynn Massachusetts, Office of Economic & Community Development, Lynn City Hall, Room 311, Lynn, MA 01902, $2,000,000; City of Worcester, 44 Front Street, Suite 520, Worcester, MA 01608, $3,000,754; Genesee County Health Department, 630 Saginaw Street, Suite 4, Flint, MI 48502, $2,070,000; Michigan Department of Community Health, P.O. Box 30195, Lansing, MI 48909, $3,070,000; Berrien County Health Department, 769 Pipestone, Benton Harbor, MI 49022, $2,000,000; Hennepin County, 417 North 5th Street, Suite 320, Minneapolis, MN 55401, $3,070,000; City of Winston-Salem, 100 East First Street, Suite 423, Winston-Salem, NC 27102, $2,070,000; Monroe County Department of Public Health, 111 Westfall Road, Room 908A, P.O. Box 92832, Rochester, NY 14692, $3,070,000; Chautauqua County, 7 North Erie Street, Mayville, NY 14757, $2,641,354; City of Rochester, 30 Church Street, Room 005A Rochester, NY 14614, $2,199,613; City of Springfield Ohio, 76 East High Street, Springfield, OH 45502, $3,070,000; City of Newark Ohio, 40 West Maine Street, Suite 407, Newark, OH 43055, $3,070,000; Montgomery County Ohio, 451 W. Third Street, Dayton, OH 45422, $3,070,000; Pennsylvania Department of Health, 7th Floor East Wing, Health and Welfare Building, 625 Forster Street, Harrisburg, PA 17120, $3,070,000; County of Lawrence, 430 Court Street, New Castle, PA 16103, $3,070,000; Shelby County Department of Housing, 1075 Mullins Station Road, Memphis, TN 38134, $3,070,000; Houston Department of Health and Human Services, 8000 North Stadium Drive, 2nd Floor, Houston, TX 77054, $3,070,000.

2. A total of $48,000,000 was awarded to 15 grantees for the Lead Hazard Reduction Demonstration Grant Program under the Consolidated Appropriations Act, 2009: State of Connecticut Department of Social Services, 25 Sigourney Street, Hartford, CT 06106, $3,000,000; City of Worcester Massachusetts, 44 Front Street, Suite 520, Worcester, MA 01608, $3,000,754; Baltimore County Maryland, 6401 York Road, Second Floor, Baltimore, MD 21212; $4,000,000; City of Detroit, 65 Cadillac Square, Suite 2300, Detroit, MI 48226, $3,525,372; Hennepin County, 417 North 5th Street, Suite 320, Minneapolis, MN 55401, $3,000,000; County of Westchester, 148 Martine Avenue, Room 414, White Plains, NY 10601, $1,150,000; Nassau County, 40 Main Street, 3rd Floor, Hempstead, NY 11550-4042, $4,000,000; Syracuse Lead Hazard and Control Program, 201 Easy Washington Street, Room 500, Syracuse, NY 13202, $2,050,000; City of Akron Ohio, 161 South High Street, Akron, OH 44308, $4,000,000; City of Portland, 421 SW Sixth Avenue, Suite 1100, Portland, OR 97204, $4,000,000; Redevelopment Authority of the City of Erie, 917 State Street, Erie, PA 16501, $4,000,000; City of San Antonio, 1400 South Flores, San Antonio, TX 78204, $2,023,874; Houston Department of Health and Human Services, 8000 North Stadium Drive, 2nd Floor, Houston, TX 77054, $2,250,000; Kenosha County Department of Human Services, 8600 Sheridan Road, Suite 600, Kenosha, WI 53143, $4,000,000; Wisconsin Department of Health Services, 1 West Wilson Street, P.O. Box 7850, Madison, WI 53707, $4,000,000.

3. A total of $6,124,128 was awarded to 7 grantees for the Healthy Homes Demonstration Grant Program under the Consolidated Appropriations Act, 2009: County of Alameda Lead Poisoning Prevention Program, 2000 Embarcadero Suite 300, Oakland, CA 94606, $875,000; City of San Diego, 9601 Ridgehaven Court, Ste. 310, San Diego, CA 92123, $874,667; Boston Public Health Commission, 1010 Massachusetts Avenue, Boston, MA 02118, $874,563; Coalition to End Childhood Lead Poisoning, 2714 Hudson Street, Baltimore, MD 21224, $875,000; Cuyahoga County Board of Health, 5550 Venture Dr., Parma, OH 44130, $875,000; Multnomah County, 426 SW Stark Street 8th floor, Portland, OR 97204, $874,898; Eastern Virginia Medical School, 358 Mowbray Arch, PO Box 1980, Norfolk, VA 23501, $875,000.

4. A total of $4,081,824 was awarded to 7 grantees for the Healthy Homes Technical Studies Grant Program under the Consolidated Appropriations Act, 2009: Boston Public Health Commission, 1010 Massachusetts Avenue, Boston, MA 02118, $799,503; City of Somerville, OSPCD, Somerville, MA 02143, $749,893; Saint Louis University, 211 North Grand Boulevard, St. Louis, MO 63103, $326,246; Washington University, 660 South Euclid Avenue, St. Louis, MO 63110, $599,937; Rutgers, The State University of New Jersey, 3 Rutgers Plaza, New Brunswick, NJ 08901, $251,453; The Trustees of Columbia University in the City of New York, 630 West 168th Street, Box 49, New York, NY 10032, $799,947; University of Cincinnati, 51 Goodman Drive, University Hall, Suite 530, PO Box 210222, Cincinnati, OH 45221, $554,845.

5. A total of $2,400,000 was awarded to 4 grantees for the Green and Healthy Homes Technical Studies Grant Program under the Consolidated Appropriations Act, 2009: Arizona Board of Regents for Arizona State University, 1711 South Rural Road, Tempe, AZ 85287, $450,000; National Center for Healthy Housing, 10320 Little Patuxent Parkway, Columbia, MD 21044, $650,000; Environmental Health Watch, 3500 Lorain Avenue, Room 301, Cleveland, OH 44113, $650,000; Rutgers, the State University of New Jersey, 3 Rutgers Plaza, New Brunswick, NJ 08901, $650,000.

6. A total of $618,060 was awarded to 7 grantees for the Lead Hazard Control Capacity Building Grant Program under the Consolidated Appropriations Act, 2009; City of Jacksonville, #1 Municipal Drive, Jacksonville, AR 72076, $60,000; Pembroke Township, 4530 South Main Street, Pembroke Township, IL 60958, $71,423; Spirit Lake Nation, PO Box 99, Fort Totten, ND 58335, $100,000; Public Health Solutions District Health Department, 995 East Highway 33, Suite 1, Crete, NE 68333, $94,577; Broome County Health Department, 225 Front Street, Broome, NY 13905, $100,000; Niagara County Department of Health, 5467 Upper Mountain Road, Lockport, NY 14094, $100,000; City of Waukesha, A Wisconsin Municipal Corporation, 201 Delafield Street, Waukesha, WI 53188, $92,060.

Dated: July 26, 2010.
Office of Healthy Homes and Lead Hazard Control.
Jon L. Gant,
Director, Office of Healthy Homes and Lead Hazard Control.

[FR Doc. 2010-18909 Filed 7-30-10; 8:45 am]

BILLING CODE 4210-67-P